DEPARTMENT OF ENERGY

Environmental Management Site-Specific Advisory Board, Idaho

AGENCY: Department of Energy.

ACTION: Notice of open meeting.

SUMMARY: This notice announces a meeting of the Environmental Management Site-Specific Advisory Board (EM SSAB), Idaho. Federal Advisory Committee Act (Pub. L. 92-463, 86 Stat. 770) requires that public notice of these meeting be announced in the Federal Register.

DATES: Tuesday, March 20, 2001, 8:00 a.m.-6:00 p.m.; Wednesday, March 21, 2001, 8:00 a.m.-5:00 p.m.

Public participation sessions will be held on: Tuesday, March 20, 2001, 12:15-12:30 p.m, 5:45-6:00 p.m.; Wednesday, March 21, 2001, 11:45-12:00 noon, 4:05-4:20 p.m.

These times are subject to change as the meeting progresses. Please check with the meeting facilitator to confirm these times.

ADDRESSES: Doubletree Hotel Downtown, 1800 Fairfax, Boise, Idaho 83702, (208) 344-7691.

FOR FURTHER INFORMATION CONTACT: Ms. Wendy Lowe, INEEL Cab Facilitator, Jason Associates Corporation, 477 Shoup Avenue, Suite 205, Idaho Falls, ID 83402, Phone (208) 522-1662 or visit the Board's Internet home page at ­ http://www.ida.net/users/cab.

SUPPLEMENTARY INFORMATION: Purpose of the Board: The purpose of the Board is to make recommendations to DOE and its regulators in the areas of future use, cleanup levels, waste disposition and cleanup priorities at the INEEL.

Tentative Agenda: (Agenda topics may change up to the day of the meeting. Please contact Jason Associates for the most current agenda or visit the CAB's Internet site at www.ida.net/users/cab).

Presentations on the following:

• Remedial Investigation/Feasibility Study data collection in the Subsurface Disposal Area

• Groundwater plume below the Idaho Nuclear Technology and Engineering Center

• Comprehensive Facilities and Land Use Plan

• 5-Year Update to the Spent Nuclear Fuel Environmental Impact Statement Voluntary Consent Order

• Environmental Assessment for the Deactivation, Decommissioning, and Dismantlement of a portion of Building CPP-603A at Idaho Nuclear Technology and Engineering Center

Briefings on the following:

• Status of the Yucca Mountain Environmental Impact Statement

Presentation and develop recommendations on:

• Budget priorities for FY 2003 under a restricted budget

• Wildfire Environmental Assessment

• Subsurface Science Initiative and the Vadose Zone Research Roadmap

Discussion of the following:

• A Site Specific Advisory Board Workshop on Alternatives to Incineration

Public Participation: This meeting is open to the public. Written statements may be filed with the Board facilitator either before or after the meeting. Individuals who wish to make oral presentations pertaining to agenda items should contact the Board Chair at the address or telephone number listed above. Request must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations.

Minutes: The minutes of this meeting will be available for public review and copying at the Freedom of Information Public Reading Room, 1E-190, Forrestal Building, 1000 Independence Avenue, SW., Washington, DC 20585 between 9:00 a.m. and 4:00 p.m., Monday through Friday except Federal holidays. Minutes will also be available by writing to Ms. Wendy Lowe, INEEL CAB Facilitator, Jason Associates Corporation, 477 Shoup Avenue, Suite 205, Idaho Falls, ID 83402 or by calling (208) 522-1662.

Issued at Washington, DC on February 8, 2001.
Rachel Samuel,
Deputy Advisory Committee Management Officer.

[FR Doc. 01-3585 Filed 2-12-01; 8:45 am]

BILLING CODE 6450-01-P